DEPARTMENT OF HEALTH AND HUMAN SERVICES

Health Resources and Services Administration

Legislative Changes to Nursing Student Loan Program Authorized Under Title VIII of the Public Health Service Act

AGENCY: Health Resources and Services Administration, HHS.

ACTION: Notice.

SUMMARY: On March 23, 2010, President Obama signed into law the Patient Protection and Affordable Care Act (ACA), Public Law (Pub. L.) 111-148. Section 5202 of the ACA changes the Nursing Student Loan (NSL) program by: (1) Increasing the limits of loan funds to students; (2) revising the date of enrollment to be considered eligible to receive NSL funds; and (3) revising the date of loans eligible for partial loan cancellation.

SUPPLEMENTARY INFORMATION: The Nursing Student Loan (NSL) program was authorized by the Nurse Training Act of 1964 (Pub. L. 88-581) to alleviate the shortage of nursing personnel and to assure that no qualified student was denied the pursuit of a nursing career due to lack of financial resources. The NSL program provides long-term, low-interest loans to full-time and half-time students to help meet the cost of education. Students are eligible to apply for the NSL program if pursuing a course of study leading to a diploma in nursing, an associate or bachelor's degree in nursing or an equivalent degree, or a graduate degree in nursing. Below are details on how the ACA changes Sections 836(a), 836(b)(1), and 836(b)(3) of the Public Health Service Act, respectively, regarding the administration of the NSL program.

Loan Funding Limits

The ACA increases the maximum amount of NSL funding a student can receive. Previously, the total amount of NSL funds for any academic year could not exceed $2,500 in the case of any student except that, for the final 2 academic years of the program involved, such total could not exceed $4,000. With the legislative change, however, the new total amount of the loans for any academic year from NSL funds may not exceed $3,300 in the case of any student except that, for the final two academic years of the program involved, such total may not exceed $5,200.

Prior to the ACA, the aggregate of the NSL loans for all years from such funds was a maximum of $13,000 in the case of any student. Now, the aggregate of the loans for all years from such funds may not exceed $17,000 in the case of any student during fiscal years 2010 and 2011. After fiscal year 2011, the amounts shall be adjusted to provide for a cost-of-attendance increase for the yearly loan rate and the aggregate of the loans. (Section 5202(a) of the ACA.)

Date of Enrollment

The ACA changes the date a student of financial need must be enrolled in a nursing program in order to be eligible to receive NSL funds. Previously an NSL loan could be made to a student of financial need who was enrolled after June 30, 1986. Now, an NSL loan can be made to a student of financial need who was enrolled after June 30, 2000. (Section 5202(b)(1) of the ACA.)

To be eligible, students are still also required to: (1) Pursue a full-time or half-time course of study at the school leading to a baccalaureate or associate degree in nursing or an equivalent degree, or a diploma in nursing, or a graduate degree in nursing and (2) be capable, in the opinion of the school, of maintaining good standing in such course of study.

Partial Loan Cancellation Date

Prior to the ACA, students who received NSL loans before September 29, 1979, could receive partial cancellation of their loans. Now, however, partial loan cancellation applies to loans received by students before September 29, 1995. (Section 5202(b)(2) of the ACA.)

A student who received such an NSL before September 29, 1995, can have an amount up to 85 percent of that nursing student loan (plus interest thereon) cancelled for full-time employment as a professional nurse in any public or non-profit private agency, institution, or organization, at the rate of 15 percent of the amount of such loan (plus interest) unpaid on the first day of such service for each of the first, second, and third complete year of such service, and 20 percent of such amount (plus interest) for each complete fourth and fifth year of such service. Employment as a professional nurse may include teaching in any of the fields of nurse training and serving as an administrator, supervisor, or consultant in any of the fields of nursing. Nursing experience prior to March 23, 2010 will not be considered in determining loan cancellation.

Dated: June 21, 2010.
Mary K. Wakefield,
Administrator.

[FR Doc. 2010-15421 Filed 6-24-10; 8:45 am]

BILLING CODE 4165-15-P